LEGAL SERVICES CORPORATION

Sunshine Act Meetings of the Board of Directors and the Board's Committees; Revised Notice; Technical Revisions

Notice

The Legal Services Corporation (LSC) is announcing technical revisions to the notices of meetings of the Board of Directors and two of its Committees. The revisions appear in italic. There are no other changes.

Times and Dates: The Legal Services Corporation Board of Directors and five of the Board's Committees will meet on April 25-26, 2008 in the order set forth in the following schedule, with each meeting commencing within 10 minutes after adjournment of the immediately preceding meeting.

Public Observation By Telephone: Members of the public who wish to listen to the open portions of the meetings live may do so by following the telephone call-in directions given below. You are asked to keep your telephone muted to eliminate background noises. Comments from the public may from time to time be solicited by the presiding Chairman.

Call-In Directions for Open Sessions

Friday, April 25, 2008

• Call toll-free number 1-888-831-6080.

• When prompted, enter the following numeric pass code: 23698.

• When connected to the call, please “MUTE” your telephone immediately.

Saturday, April 26, 2008

• Call toll-free number 1-888-913-9965.

• When prompted, enter the following numeric pass code: 58990.

• When connected to the call, please “MUTE” your telephone immediately.

Meeting Schedule
Date | Time¹
Friday, April 25, 2008:
1. Provision for the Delivery of Legal Services Committee (Provisions Committee) | 1:30 p.m.
2. Operations & Regulations Committee.
Saturday, April 26, 2008:
3. Finance Committee | 9 a.m.
4. Audit Committee.
5. Annual Performance Reviews Committee.
6. Board of Directors.
¹ Please note that all times in this notice are Central Daylight Time.

Location: The Marriott Hotel, 3233 Northwest Expressway, Oklahoma City, Oklahoma.

Status of Meetings: Open, except as noted below.

• April 26, 2008 Finance Committee Meeting—A portion of the Committee's meeting may be closed to the public pursuant to a vote of the Board of Directors authorizing the Committee to meet in executive session to receive a report/briefing on staff's assessment of proposals submitted by companies competing for selection to serve as Administrator of the 403(b) Thrift Plan (Plan) for LSC employees, as well as to permit the Committee to conduct confidential interviews of representatives of two of the competing companies. The staff report/briefing is not subject to the Government in the Sunshine Act or the Legal Services Corporation regulations implementing the Sunshine Act.² The closing is authorized by the relevant provision of the Government in the Sunshine Act, 5 U.S.C. 552b(c)(4) and (c)(9)(B), and the corresponding provisions of the Legal Services Corporation's implementing regulation, 45 CFR 1622.5(c) and (g). A verbatim written transcript of the session will be made. The transcript of any portions of the closed session falling within the relevant provision(s) of the Government in the Sunshine Act, 5 U.S.C. 552b(c)(6), and the corresponding provision of LSC's implementing regulation, 45 CFR 1622.5(e), will not be available for public inspection. The transcript of any portions not falling within the cited provisions will be available for public inspection. A copy of the General Counsel's Certification that the closing is authorized by law will be available upon request.

¹ Any portion of the closed session consisting solely of staff briefings does not fall within the Sunshine Act's definition of the term “meeting” and, therefore, the requirements of the Sunshine Act do not apply to such portion of the closed session. 5 U.S.C. 552b(a)(2) and (b). See also 45 CFR 1622.2 & 1622.3.

• April 26, 2008 Board of Directors Meeting—Open, except that a portion of the meeting of the Board of Directors may be closed to the public pursuant to a vote of the Board of Directors to consider and perhaps act on the General Counsel's report on potential and pending litigation involving LSC. A verbatim written transcript of the session will be made. The transcript of any portions of the closed session falling within the relevant provisions of the Government in the Sunshine Act, 5 U.S.C. 552b(c)(10), and the corresponding provisions of the Legal Services Corporation's implementing regulation, 45 CFR 1622.5(h), will not be available for public inspection. The transcript of any portions not falling within the cited provisions will be available for public inspection. A copy of the General Counsel's Certifications that the closings are authorized by law will be available upon request.

Matters To Be Considered:

Friday, April 25, 2008

Provision for the Delivery of Legal Services Committee

Agenda

Open Session

1. Approval of agenda.

2. Approval of the Committee's meeting minutes of January 25, 2008.

3. Staff Update on activities implementing the LSC Private Attorney Involvement Action Plan—Help Close the Justice Gap: Unleash the Power of Pro Bono.

4. Staff Update on LSC Technology Capacities for Legal Aid Offices.

5. Presentation on Native American Delivery and Funding.

• Representatives of Native American Indian Legal Services (NAILS).

6. Consider and act on Provision for the Delivery of Legal Services Committee charter to propose to the Board of Directors for adoption.

7. Chairman's Update on Provisions Committee 2008 Agenda.

8. Public comment.

9. Consider and act on other business.

10. Consider and act on adjournment of meeting.

Operations & Regulations Committee

Agenda

Open Session

1. Approval of agenda.

2. Approval of the minutes of the Committee's January 25, 2008 meeting.

3. Approval of the minutes of the Committee's January 26, 2008 meeting.

4. Consider and act on initiation of rulemaking to adopt “lesser sanctions”.

a. Staff report.

b. OIG comment.

c. Public comment.

5. Consider and act on Operations & Regulations Committee charter to propose to the Board of Directors for adoption.

6. Staff report on development of LSC's in-house Compliance Program.

7. Staff report on LSC's Continuation of Operations Plan (“COOP”).

8. Staff report on LSC's risk management plan.

9. Public comment.

10. Consider and act on other business.

11. Consider and act on adjournment of meeting.

Saturday, April 26, 2008

Finance Committee

Agenda

Open Session

1. Approval of agenda.

2. Approval of the minutes of the Committee's meeting of January 26, 2008.

3. Consider and act on adjustments to the Consolidated Operating Budget for FY 2008 and recommend Resolution # 2008-004 to the full Board.

• Presentation by David Richardson, Treasurer/Comptroller.

• Comments by Charles Jeffress.

4. Presentation on LSC's Financial Reports for the first six months of FY 2008.

• Presentation by David Richardson, Treasurer/Comptroller.

• Comments by Charles Jeffress, Chief Administrative Officer.

5. Report on FY 2009 appropriations process.

• Presentation by John Constance, Director, Office of Government Relations and Public Affairs.

6. Consider and act on Finance Committee charter to propose to the Board of Directors for adoption.

Closed Session

7. Consider and act on a recommendation to the Board for a new plan administrator for the 403(b) Thrift Plan for Employees of LSC, Resolution 2008-005.

• Introduction by Charles Jeffress.

• Presentation by the Nationwide Team, Ivette Dominguez, Regional Vice President, Private Sector Retirement Plans, Nationwide Financial; Ralph Prisco, President, Long Island Employee Benefits Group; and Thomas Gletner, SunTrust Investment Services.

• Presentation by the American United Life/One America Team, David Frost, Regional Sales Director, AUL/One America; and David Ponder, Ponder Financial Group, Financial Adviser.

Open Session

8. Public comment.

9. Consider and act on other business.

10. Consider and act on adjournment of meeting.

Audit Committee

Agenda

Open Session

1. Approval of agenda.

2. Report of the Committee Chairman on the Board's actions regarding establishment of the Audit Committee.

3. Report on Board Chairman's appointments to the Audit Committee.

4. Committee Chairman's summary of the Audit Committee's Charter.

5. Consider and act on the process used by the Inspector General to select and/or retain the Corporation's external auditor.

6. Consider and act on how the work of the Office of Inspector General will assist and complement the work of the Audit Committee.

7. Comments by LSC's Independent Public Accountant (“IPA”) regarding the IPA's perspective on the Audit Committee mission.

8. Consider and act on development of a plan of action for the Committee.

9. Public comment.

10. Consider and act on other business.

11. Consider and act on adjournment of meeting.

Performance Reviews Committee

Agenda

Open Session

1. Approval of agenda.

2. Consider and act on establishment of procedures and a protocol for the annual performance review of the LSC Inspector General.

3. Consider and act on other business.

4. Consider and act on adjournment of meeting.

Board of Directors

Agenda

Open Session

1. Approval of agenda.

2. Approval of minutes of the Board's Open Session meeting of January 26, 2008.

3. Approval of minutes of the Board's Open Session telephonic meeting of February 20, 2008.

4. Approval of minutes of the Board's Open Session telephonic meeting of March 24, 2008.

5. Consider and act on delegation to Chairman of authority to assign Directors to the various committees of the Board and to appoint each committee's chairperson.

6. Chairman's Report.

7. Members' Reports.

8. President's Report.

9. Inspector General's Report.

10. Consider and act on the report of the Provision for the Delivery of Legal Services Committee.

11. Consider and act on the report of the Finance Committee.

12. Consider and act on the report of the Operations & Regulations Committee.

13. Consider and act on the report of the Audit Committee.

14. Consider and act on the report of the Performance Reviews Committee.

15. Consider and act on the report of the Board's 2008 Ad Hoc Committee Liaison.

16. Consider and act on recommendations made to the Board in the Government Accountability Office report on LSC governance.

a. Develop a plan for providing a regular training program for board members that includes providing updates or changes in LSC's operating environment and relevant governance and accountability practices.

b. Implement a periodic self-assessment of the Board's, the committees’, and each individual member's performance for purposes of evaluating whether improvements can be made to the board's structure and processes.

c. Develop and implement procedures to periodically evaluate key management processes, including at a minimum, processes for risk assessment and mitigation, internal control, and financial reporting.

d. Establish and implement a comprehensive orientation program for new board members to include key topics such as fiduciary duties, IRS requirements, and interpretation of the financial statements.

e. Adopt Board committee charters.

17. Consider and act on proposed Protocol for Board member access to Corporation records.

18. Public comment.

19. Consider and act on other business.

20. Consider and act on whether to authorize an executive session of the Board to address items listed below under Closed Session.

Closed Session

21. Approval of minutes of the Board's Executive Session of January 26, 2008.

22. Consider and act on General Counsel's report on potential and pending litigation involving LSC.

23. Consider and act on motion to adjourn meeting.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 16, 2008.
Victor M. Fortuno,
Vice President & General Counsel.

[FR Doc. 08-1156 Filed 4-16-08; 2:16 pm]

BILLING CODE 7050-01-P